NATIONAL SCIENCE FOUNDATION

Proposal Review Panel for Physics; Notice of Meeting

In accordance with the Federal Advisory Committee Act (Pub. L. 92-463, as amended), the National Science Foundation (NSF) announces the following meeting:

Name and Committee Code: Proposal Review Panel for the Division of Physics (1208)—FRHTP at the University of California, Berkeley Site Visit.

Date and Time:

March 18, 2020; 8:00 p.m.-9:00 p.m.

March 19, 2020; 8:30 a.m.-6:30 p.m.

March 20, 2020; 8:30 a.m.-5:00 p.m.

Place: University of California, 200 California Hall, Berkeley, CA 94720.

Type of Meeting: Part-Open.

Contact Person: Bogdan Mihaila, Program Director for Physics Computational Physics, Division of Physics, National Science Foundation, 2415 Eisenhower Avenue, Room 9241, Alexandria, VA 22314; Telephone: (703) 292-8235.

Purpose of Meeting: Site visit to provide an evaluation of the progress of the projects at the host site for the Division of Physics at the National Science Foundation.

Agenda

Wednesday, March 18, 2020

Informal Panel Orientation—8:00 p.m., Closed

Thursday, March 19, 2020

Coffee and Pastries—8:30 a.m., Open

Executive Session—8:45 a.m., Closed

FRHTP Director Report on FRHTP Program and Activities—9:00 a.m., Open

Science Presentations (SIs¹ or PSIs²)—10:00 a.m., Open

Lunch (with Postdocs)—12:00 p.m., Closed

Science Presentations (SIs or PSIs)—1:00 p.m., Open

Postdoc Presentations—2:00 p.m., Open

Executive Session to formulate queries—4:00 p.m., Closed

Poster Session—5:00 p.m., Open

Panel and NSF Staff Dinner—6:30 p.m., Closed

Friday, March 20, 2020

Coffee and Pastries—8:30 a.m., Open

Response to Panel queries—9:00 a.m., Closed

Meet with Physics Depart and University Administrators—10:30 a.m., Closed

Executive Session (Lunch)—12:00 p.m., Closed

Closeout. FHRTP Director (PI) & Executive Board (Co-PIs)—2:00 p.m., Closed

Complete Report—2:30 p.m., Closed

Adjourn—5:00 p.m., Closed

Reason for Closing: Topics to be discussed and evaluated during closed portions of the site review will include information of a proprietary or confidential nature, including technical information and information on personnel. These matters are exempt under 5 U.S.C. 552b(c), (4) and (6) of the Government in the Sunshine Act.

Dated: January 23, 2020.
Crystal Robinson,
Committee Management Officer.

[FR Doc. 2020-01389 Filed 1-27-20; 8:45 am]

BILLING CODE 7555-01-P